DEPARTMENT OF TRANSPORTATION

Surface Transportation Board

[STB Docket No. AB-33 (Sub-No. 291X)]

Union Pacific Railroad Company—Discontinuance of Trackage Rights Exemption—in Alameda County, CA

Union Pacific Railroad Company (UP) has filed a verified notice of exemption under 49 CFR 1152 Subpart F—Exempt Abandonments and Discontinuances of Service to discontinue local trackage rights over 1.80 miles of rail line owned by Alameda Belt Line (ABL) ¹ between milepost 0.00 near Clement Avenue and milepost 1.80 near Sherman Street in the City of Alameda, Alameda County, CA (City).² The line traverses United States Postal Service Zip Code 94501.

¹ ABL is jointly owned by UP and Burlington Northern and Santa Fe Railway Company (BNSF). UP acquired the trackage rights in Union Pacific Railroad Company—Trackage Rights Exemption—Alameda Belt Line, STB Finance Docket No. 33682 (STB served Nov. 24, 1998). Once the exemption became effective, UP handled rail cars as the operating agent for BNSF.

² UP states that the City has negotiated a purchase agreement with it and BNSF to purchase the line and, as a condition to closing the agreement, the City desires that UP and BNSF discontinue service over the line.

UP has certified that: (1) No local traffic has moved over the line for at least 2 years; (2) there is no overhead traffic on the line; (3) no formal complaint filed by a user of rail service on the line (or by a state or local government entity acting on behalf of such user) regarding cessation of service on the line either is pending with the Board or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on May 8, 2010, unless stayed pending reconsideration. Petitions to stay that do not involve environmental issues and formal expressions of intent to file an OFA for continued rail service under 49 CFR 1152.27(c)(2) ³ must be filed by April 19, 2010.⁴ Petitions to reopen must be filed by April 28, 2010, with: Surface Transportation Board, 395 E Street, SW., Washington, DC 20423-0001.

³ Each OFA must be accompanied by the filing fee, which currently is set at $1,500. See 49 CFR 1002.2(f)(25).

⁴ Because this is a discontinuance proceeding and not an abandonment, trail use/rail banking and public use conditions are not appropriate. Likewise, no environmental or historical documentation is required here under 49 CFR 1105.6(c) and 1105.8(b), respectively.

A copy of any petition filed with the Board should be sent to UP's representative: Mack H. Shumate, Jr., 101 North Wacker Drive, Room 1920, Chicago, IL 60606.

If the verified notice contains false or misleading information, the exemption is void ab initio.

Board decisions and notices are available on our Web site at www.stb.dot.gov.

Decided: April 2, 2010.
By the Board, Rachel D. Campbell, Director, Office of Proceedings.
Jeffrey Herzig,
Clearance Clerk.

[FR Doc. 2010-7854 Filed 4-7-10; 8:45 am]

BILLING CODE 4915-01-P